DEPARTMENT OF AGRICULTURE

Forest Service

Plan Revision for the Kooentai National Forest, Montana and the Idaho Panhandle National Forests, Idaho

AGENCY: Forest Service, USDA.

ACTION: Notice of adjustment for resuming the land management plan revision process.

SUMMARY: The USDA, Forest Service is resuming preparation of the Kootenai and Idaho Panhandle National Forests revised land management plans as directed by the National Forest Management Act (NFMA). The Kootenai and Idaho Panhandle National Forests comprise the Kootenai and Idaho Panhandle Planning Zone (KIPZ). Preparation of the revised plan was halted when the 2005 Forest Service planning rule was enjoined. A new planning rule (36 CFR part 219) took effect on April 21, 2008, allowing the planning process to be resumed. This notice marks the resumption of the Kootenai and Idaho Panhandle National Forests plan revision process under the new planning rule.

ADDRESSES: Information on this revision is available at Kootenai and Idaho Panhandle National Forests revision Web site http://www.fs.fed.us/kipz.

FOR FURTHER INFORMATION CONTACT: Linda Clark, Interdisciplinary Team Leader, Kootenai and Idaho Panhandle Planning Zone (KIPZ), 83815 Schreiber Way, Coeur d'Alene, Idaho 83815, (208) 765-7417 or laclark@fs.fed.us. Individuals who use telecommunication devices for the deaf (TDD) may call the Federal Information Relay Service (FIRS) at 1-800-877-8339 between 8 a.m. and 8 p.m., Eastern Time, Monday through Friday.

SUPPLEMENTARY INFORMATION: Notification of adjustment of plan revision process for the Kootenai and Idaho Panhandle National Forests planning zone (KIPZ) land management plan was provided in the Federal Register, 70 FR 28901, May 19, 2005. The plan revision was initiated under the planning procedures contained in the 2005 Forest Service planning rule (36 CFR part 219 (2005)). On March 30, 2007, the Federal district court for the Northern District of California enjoined the Department from implementing and using the 2005 planning rule until the Agency complied with the court's order regarding the National Environmental Policy Act, the Endangered Species Act, and the Administrative Procedure Act (Citizens for Better Forestry v. USDA, 481 F. Supp 2d 1059 (N.D. Cal. 2007)). Revision of the Kootenai and Idaho Panhandle National Forests land management plans under the (36 CFR part 219 (2005)) rule was suspended in response to the injunction. On April 21, 2008, following a notice and comment opportunity, completion of an environmental impact statement and consultation under the Endangered Species Act, the Department of Agriculture promulgated a new planning rule (36 CFR part 219 (2008)). This new planning rule explicitly allows the resumption of plan revisions started under the 2005 rule based on a finding that the revision process conforms to the new planning rule (36 CFR 219.14(b)(3)(ii)).

In May 2006, the Kootenai and Idaho Panhandle National Forests prepared and released a Proposed Land Management Plan with maps for a 90-day comment period (extended to 120 days). Supporting documentation such as a draft Comprehensive Evaluation Report and Analysis of Management Situation were also made available to the public. The development and content of those documents and plan components are consistent with the 2008 planning rule. Beginning in May 2005, and prior to injunction of the 2005 planning rule, the Kootenai and Idaho Panhandle National Forests implemented four major phases of public involvement: (1) Scoping; (2) collaborative workgroup meetings to develop desired conditions and other components of the Plan; (3) collaborative workgroup meetings to discuss Starting Option maps; and (4) the release of the Proposed Plan maps. Since release of the Proposed Land Management Plan and the conclusion of the public comment period, the Analysis of Public Comment report was produced in March 2007, and posted on the KIPZ Web site. This report is a synthesis and summary of the comments and concerns that were brought up during the comment period on the Proposed Land Management Plans. Results from collaboration will be used as the revision process resumes. The remainder of the revision process will be conducted in accordance with all Forest Service directives applicable to the 2008 planning rule.

Based on the discussions above, we find that the planning actions taken prior to April 21, 2008, the effective date of the new planning rule, conform to the planning process of the 2008 planning rule and for that reason the plan revision process does not need to be restarted. Therefore, the Kootenai and Idaho Panhandle National Forests are resuming their plan revision process where we left off in March 2007, by using information received during the public comment period and collaborative efforts on the Proposed Land Management Plan to develop our final plans.

Dated: June 11, 2009.
Paul Bradford,
Forest Supervisor.

[FR Doc. E9-14417 Filed 6-19-09; 8:45 am]

BILLING CODE 3410-11-P